DEPARTMENT OF AGRICULTURE

Forest Service

Chequamegon-Nicolet National Forest, Wisconsin, Townsend Project

AGENCY: Forest Service, USDA.

ACTION: Notice of intent to prepare an environmental impact statement.

SUMMARY: The Forest Service will prepare an environmental impact statement (EIS) to document the analysis and disclose the environmental impacts of proposed land management activities and corresponding alternatives within the Townsend Project. The purpose of the Townsend Project is to implement land management activities that are consistent with direction in the Chequamegon-Nicolet National Forest 2004 Land and Resources Management Plan (forest plan) and respond to the specific needs identified in the project area. The project-specific needs include: species diversity, wildlife habitat, stream bank improvement, forest age, forest composition, and stocking.

DATES: Comments concerning the scope of the analysis must be received by June 29, 2015 in order to have standing for objection. The draft environmental impact statement is expected on January 2016 and the final environmental impact statement is expected on April 2016.

ADDRESSES: Send written comments to Marilee Houtler, ATTN: Townsend Project, Lakewood-Laona Ranger District, 15085 State Road 32, Lakewood, WI 54138. Comments may also be sent via email to comments-eastern-chequamegon-nicolet-lakewood@fs.fed.us, or via facsimile to 715-276-3594.

Comments received in response to this solicitation, including names and addresses of those who comment, will be part of the public record for the proposed action. Comments submitted anonymously will be accepted and considered; however, anonymous comments will not provide the Agency with the ability to provide the respondent with subsequent environmental documents.

FOR FURTHER INFORMATION CONTACT: Marilee Houtler, NEPA Coordinator at the above address or by phone at 715-276-6333.

Individuals who use telecommunication devices for the deaf (TDD) may call the Federal Information Relay Service (FIRS) at 1-800-877-8339 between 8 a.m. and 8 p.m., Eastern Time, Monday through Friday.

SUPPLEMENTARY INFORMATION: The infromation presented in this notice is included to help the reviewer determine if they are interested in or potentially affected by the proposed land management activities. The infromation presented in the notice is summarized. Those who wish to provide comments or are otherwise interested in or affected by the projects are encouraged to obtain additional infromation from the contact listed above.

Purpose and Need for Action

The current conditions of many stands in the project area varies from desired conditions in the forest plan. Our information shows some of the more notable gaps between the existing and desired conditions by management area. Of primary importance is the need for change in: wildlife habitat, stream improvement, species age structure, species composition, and stocking densities.

Proposed Action

Projected project implementation would be fall 2016. The Townsend Project is located on National Forest System lands, administered by the Lakewood-Laona Ranger District, west of Townsend. The legal description of the project is Townships 32-34 North and Ranges 14 and 15 East. The Forest Service proposes to improve wildlife habitat, remove short-lived species along streams, and use timber harvest (selection, thin, clearcut, and shelterwood) to move the area toward the desired conditions.

Responsible Official

The responsible official for this project is Lakewood-Laona Distict Ranger, Chequamegon-Nicolet National Forest.

Nature of Decision To Be Made

Decision making will be limited to specific activities relating to the proposed actions. The primary decision to be made will be whether or not to implement the proposed action, no action, another alternative, or parts of alternatives that respond to the projects purpose and need. This decision would be documented in a record of decision.

Scoping Process

This notice of intent initiates the scoping process, which guides the development of the EIS. The 45 day comment period will start after the publication in the Federal Register of the Notice of Availabilty for the Townsend Project Draft EIS.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. However, comments submitted anonymously will be accepted and considered.

Dated: May 11, 2015.
Paul I. V. Strong,
Forest Supervisor.

[FR Doc. 2015-13015 Filed 5-28-15; 8:45 am]

BILLING CODE 3410-11-P